DEPARTMENT OF ENERGY

Federal Energy Regulatory Commission

Combined Notice of Filings #2

Take notice that the Commission received the following electric corporate filings:

Docket Numbers: EC25-43-000.

Applicants: CONSTELLATION ENERGY CORPORATION, Constellation Energy Generation, LLC, Calpine Corporation.

Description: Informational Filing Agreement of Percentage of Issued and Outstanding Shares of Constellation Energy Corporation.

Filed Date: 7/3/25.

Accession Number: 20250703-5191.

Comment Date: 5 p.m. ET 7/14/25.

Take notice that the Commission received the following exempt wholesale generator filings:

Docket Numbers: EG25-377-000.

Applicants: Big Cypress Energy Storage, LLC.

Description: Big Cypress Energy Storage, LLC submits Notice of Self-Certification of Exempt Wholesale Generator Status.

Filed Date: 7/7/25.

Accession Number: 20250707-5189.

Comment Date: 5 p.m. ET 7/28/25.

Docket Numbers: EG25-378-000.

Applicants: Holtec Palisades, LLC.

Description: Holtec Palisades, LLC submits Notice of Self-Certification of Exempt Wholesale Generator Status.

Filed Date: 7/7/25.

Accession Number: 20250707-5218.

Comment Date: 5 p.m. ET 7/28/25.

Docket Numbers: EG25-379-000.

Applicants: Honeycomb Solar, LLC.

Description: Honeycomb Solar, LLC submits Notice of Self-Certification of Exempt Wholesale Generator Status.

Filed Date: 7/8/25.

Accession Number: 20250708-5062.

Comment Date: 5 p.m. ET 7/29/25.

Docket Numbers: EG25-380-000.

Applicants: Honeycomb BESS, LLC.

Description: Honeycomb BESS, LLC submits Notice of Self-Certification of Exempt Wholesale Generator Status.

Filed Date: 7/8/25.

Accession Number: 20250708-5065.

Comment Date: 5 p.m. ET 7/29/25.

Docket Numbers: EG25-381-000.

Applicants: Ruby Solar, LLC.

Description: Ruby Solar, LLC submits Notice of Self-Certification of Exempt Wholesale Generator Status.

Filed Date: 7/8/25.

Accession Number: 20250708-5067.

Comment Date: 5 p.m. ET 7/29/25.

Take notice that the Commission received the following electric rate filings:

Docket Numbers: ER12-348-008; ER13-1079-003.

Applicants: J.P. Morgan Commodities Canada Corporation, Mercuria Energy America, Inc.

Description: Updated Triennial Market Power Analysis for Southwest Region of Mercuria Energy America, LLC, et al.

Filed Date: 7/1/25.

Accession Number: 20250701-5441.

Comment Date: 5 p.m. ET 9/2/25.

Docket Numbers: ER21-1945-001.

Applicants: NTE Ohio, LLC.

Description: Compliance filing: Ohio Power Partners, LLC submits tariff filing per 35: Informational Filing Regarding Upstream Change in Ownership to be effective N/A.

Filed Date: 7/7/25.

Accession Number: 20250707-5196.

Comment Date: 5 p.m. ET 7/28/25.

Docket Numbers: ER24-116-005.

Applicants: Rhythm Ops, LLC.

Description: Triennial Market Power Analysis for Southwest Region and Notice of Non-Material Change in Status of Rhythm Ops, LLC.

Filed Date: 7/1/25.

Accession Number: 20250701-5440.

Comment Date: 5 p.m. ET 9/2/25.

Docket Numbers: ER25-2168-001.

Applicants: Atlas VII, LLC.

Description: Tariff Amendment: Amendment to 1 to be effective 5/8/2025.

Filed Date: 7/8/25.

Accession Number: 20250708-5091.

Comment Date: 5 p.m. ET 7/29/25.

Docket Numbers: ER25-2169-001.

Applicants: Atlas IX, LLC.

Description: Tariff Amendment: Amendment to 1 to be effective 5/8/2025.

Filed Date: 7/8/25.

Accession Number: 20250708-5092.

Comment Date: 5 p.m. ET 7/29/25.

Docket Numbers: ER25-2800-000.

Applicants: PJM Interconnection, L.L.C.

Description: § 205(d) Rate Filing: Amendment to ISA, Service Agreement No. 7099; Queue Position No. AE1-250 to be effective 9/7/2025.

Filed Date: 7/8/25.

Accession Number: 20250708-5019.

Comment Date: 5 p.m. ET 7/29/25.

Docket Numbers: ER25-2801-000.

Applicants: Midcontinent Independent System Operator, Inc., ITC Midwest LLC.

Description: § 205(d) Rate Filing: ITC Midwest LLC submits tariff filing per 35.13(a)(2)(iii: 2025-07-08_SA 4529 ITC Midwest-Interstate Power and Light PCA (Big Cedar) to be effective 9/7/2025.

Filed Date: 7/8/25.

Accession Number: 20250708-5029.

Comment Date: 5 p.m. ET 7/29/25.

Docket Numbers: ER25-2802-000.

Applicants: Chariot Energy Northeast, LLC.

Description: § 205(d) Rate Filing: Application for Market Based Rate Authority to be effective 7/9/2025.

Filed Date: 7/8/25.

Accession Number: 20250708-5075.

Comment Date: 5 p.m. ET 7/29/25.

Docket Numbers: ER25-2803-000.

Applicants: Midcontinent Independent System Operator, Inc., ALLETE, Inc.

Description: § 205(d) Rate Filing: ALLETE, Inc. submits tariff filing per 35.13(a)(2)(iii: 2025-07-08_SA 4530 Minnesota Power-Harmony Group E&P (Loon) to be effective 7/1/2025.

Filed Date: 7/8/25.

Accession Number: 20250708-5077.

Comment Date: 5 p.m. ET 7/29/25.

Docket Numbers: ER25-2804-000.

Applicants: Ohio Power Partners, LLC.

Description: Ohio Power Partners, LLC submits an Informational Filing and Request for Limited Waiver and Expedited Action.

Filed Date: 7/7/25.

Accession Number: 20250707-5272.

Comment Date: 5 p.m. ET 7/28/25.

Docket Numbers: ER25-2805-000.

Applicants: Public Service Company of New Mexico.

Description: § 205(d) Rate Filing: 2nd Revised Jicarilla NITSA/NOA to be effective 6/9/2025.

Filed Date: 7/8/25.

Accession Number: 20250708-5125.

Comment Date: 5 p.m. ET 7/29/25.

Take notice that the Commission received the following public utility holding company filings:

Docket Numbers: PH25-12-000.

Applicants: Public Sector Pension Investment Board.

Description: Public Sector Pension Investment Board submits FERC 65-B Notice of Change in Fact to Waiver Notification.

Filed Date: 7/7/25.

Accession Number: 20250707-5247 .

Comment Date: 5 p.m. ET 7/28/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: July 8, 2025.
Carlos D. Clay,
Deputy Secretary.

[FR Doc. 2025-12969 Filed 7-10-25; 8:45 am]

BILLING CODE 6717-01-P